DEPARTMENT OF COMMERCE

Bureau of Industry and Security

Notice on Procedures for Attending or Viewing Remotely the Public Hearing on Section 232 National Security Investigation of Imports of Aluminum

AGENCY: Bureau of Industry and Security, Office of Technology Evaluation, U.S. Department of Commerce.

ACTION: Notice on procedures for attending or viewing remotely the public hearing.

SUMMARY: On May 9, 2017 (82 FR 21509), the Bureau of Industry and Security (BIS), published the Notice of Request for Public Comments and Public Hearing on Section 232 National Security Investigation of Imports of Aluminum. The May 9 notice specified that the Secretary of Commerce initiated an investigation to determine the effects on the national security of imports of aluminum. This investigation has been initiated under section 232 of the Trade Expansion Act of 1962, as amended. (See the May 9 notice for additional details on the investigation and the request for public comments.)

The May 9 notice also announced that the Department of Commerce will hold a public hearing on the investigation on June 22, 2017 in Washington, DC. Today's notice provides additional details on the procedures for attending the hearing and for viewing the hearing, via webcast.

DATES: The hearing will be held on June 22, 2017 at the U.S. Department of Commerce auditorium, 1401 Constitution Avenue NW., Washington, DC 20230. The hearing will begin at 10:00 a.m. local time and conclude at 1:00 p.m. local time.

In addition to the May 9 notice, on June 2, 2017 (82 FR 25597), BIS published the notice, Change in Comment Deadline for Section 232 National Security Investigation of Imports of Aluminum. The June 2 notice moved the original deadline included in the May 9 notice for all written submissions up by six calendar days. Commenters now are encouraged to submit their comments by June 20, 2017, but all written submissions must be received no later than June 23, 2017 to be considered in the drafting of the final report. (See the June 2 notice for additional details on the change in comment deadline.)

FOR FURTHER INFORMATION CONTACT: Brad Botwin, Director, Industrial Studies, Office of Technology Evaluation, Bureau of Industry and Security, U.S. Department of Commerce (202) 482-4060, brad.botwin@bis.doc.gov. For more information about the section 232 program, including the regulations and the text of previous investigations, see www.bis.doc.gov/232.

For questions regarding the June 22nd public hearing, including registration and foreign national visitor access, please contact aluminum232@bis.doc.gov or (202) 705-9103.

SUPPLEMENTARY INFORMATION:

Background

On May 9, 2017 (82 FR 21509), the Bureau of Industry and Security (BIS) published the Notice of Request for Public Comments and Public Hearing on Section 232 National Security Investigation of Imports of Aluminum. The May 9 notice specified that on April 26, 2017, the Secretary of Commerce (“Secretary”) initiated an investigation under section 232 of the Trade Expansion Act of 1962, as amended (19 U.S.C. 1862), to determine the effects on the national security of imports of aluminum. (See the May 9 notice for additional details on the investigation and the request for public comments.)

The May 9 notice also announced that the Department of Commerce will hold a public hearing on the investigation. The hearing will be held on June 22, 2017 at the U.S. Department of Commerce auditorium, 1401 Constitution Avenue NW., Washington, DC 20230. The hearing will begin at 10:00 a.m. local time and conclude at 1:00 p.m. local time. The hearing will assist the Department in determining whether imports of aluminum threaten to impair the national security and in recommending remedies, if such a threat is found to exist.

The May 9 notice included the following information: (a) Procedures for requesting participation in the hearing, including procedures for submitting comments; (b) conduct of the hearing; and (c) special accommodations for the hearing. (See the May 9 notice for additional details on these aspects of the public hearing.)

In addition to the May 9 notice, on June 2, 2017 (82 FR 25597), BIS published the notice, Change in Comment Deadline for Section 232 National Security Investigation of Imports of Aluminum. The June 2 notice moved the original deadline included in the May 9 notice for all written submissions up by six calendar days. Commenters now are encouraged to submit their comments by June 20, 2017, but all written submissions must be received by no later than June 23, 2017 to be considered in the drafting of the final report. (See the June 2 notice for additional details on the change in comment deadline.)

Today's notice provides additional details on the procedures for attending the hearing and for viewing the hearing, via webcast.

Procedure for Attending the Hearing, or Viewing the Hearing Via Webcast

Registration: Individuals and entities who wish to attend the public hearing in person are required to pre-register for the hearing on-line at www.bis.doc.gov/232AluminumHearing. Anyone wishing to attend this public hearing must register by 5:00 p.m. (EST), Tuesday, June 20, 2017.

Webcast: The public hearing will be available live via webcast. Registration is not required to view the hearing via webcast. No log-in information is required. Please visit: www.bis.doc.gov/232AluminumHearing to be directed to the live webcast.

Visitor Access Requirement: For participants attending in person, please note that federal agencies can only accept a state-issued driver's license or identification card for access to federal facilities if such license or identification card is issued by a state that is compliant with the REAL ID Act of 2005 (Pub. L. 109-13), or by a state that has an extension for REAL ID compliance. The main entrance of the Department of Commerce is on 14th Street NW., between Pennsylvania Avenue and Constitution Avenue, across from the Ronald Reagan Building. Upon entering the building, please go through security and check in at the guard's desk. BIS staff will meet and escort visitors to the auditorium. Admittance to the auditorium for the hearing will be available beginning at 9:00 a.m. (EST) on June 22, 2017 and the hearing will start promptly at 10:00 a.m. (EST).

Non U.S. Citizens Please Note: All foreign national visitors who do not have permanent resident status must register to attend the hearing at www.bis.doc.gov/232aluminumhearing and must fax a copy of their passport to (202) 482-5361 by 5:00 p.m. (EST), Tuesday, June 20, 2017. Please also bring a copy of your passport on the day of the hearing to serve as identification. Failure to provide this information prior to arrival will result, at a minimum, in significant delays in entering the facility. Authority to gather this information is derived from United States Department of Commerce Department Administrative Order (DAO) number 207-12. Please visit www.bis.doc.gov/232AluminumHearing to register and for more details regarding this requirement.

Dated: June 6, 2017.
Matthew S. Borman,
Deputy Assistant Secretary for Export Administration.

[FR Doc. 2017-12729 Filed 6-16-17; 8:45 am]

BILLING CODE 3510-33-P